FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2020 Thru March 31, 2020
03/02/2020
20200696 | G | Spotify Technology S.A. ; William J. Simmons III ; Spotify Technology S.A.
03/04/2020
20191021 | G | Olympus Growth Fund VI, L.P. ; DS Smith plc ; Olympus Growth Fund VI, L.P.
20200619 | G | Marlin Equity V, L.P. ; H.I.G. Capital Partners V, L.P. ; Marlin Equity V, L.P.
20200772 | G | A.P. Moller—Maersk A/S ; Craig F. Kaplan and D'Lynda D. Kaplan ; A.P. Moller—Maersk A/S.
20200777 | G | Madison Dearborn Capital Partners VII-B, L.P. ; TCFI AEVEX Holdings LLC ; Madison Dearborn Capital Partners VII-B, L.P.
03/06/2020
20200755 | G | Raul Marcelo Claure ; Softbank Group Corp. ; Raul Marcelo Claure.
20200757 | G | Nebula Acquisition Corp. ; Open Lending, LLC ; Nebula Acquisition Corp.
20200787 | G | SLP BHN Investor, L.L.C. ; Marshall W. Reavis IV ; SLP BHN Investor, L.L.C.
20200788 | G | Stripes III, LP ; Udemy, Inc. ; Stripes III, LP.
20200794 | G | Vista Equity Partners Fund V, L.P. ; Ousland Holdings, Inc. ; Vista Equity Partners Fund V, L.P.
20200800 | G | Wells Fargo & Company ; Udemy, Inc. ; Wells Fargo & Company.
20200802 | G | Naspers Limited ; Udemy, Inc. ; Naspers Limited.
20200810 | G | Francisco Partners V, L.P. ; J M Smith Corporation ; Francisco Partners V, L.P.
20200821 | G | Royal Dutch Shell plc ; Shell Midstream Partners, L.P ; Royal Dutch Shell plc.
20200822 | G | ArcLight Energy Partners Fund VII, L.P. ; Higherstar IV SWG Holdings LLC ; ArcLight Energy Partners Fund VII, L.P.
03/09/2020
20200758 | G | Ferguson plc ; Columbia Pipe & Supply Co. ; Ferguson plc.
20200771 | G | BDC Fund I Coinvest 1 LP ; Belden Inc. ; BDC Fund I Coinvest 1 LP.
20200785 | G | J.P.J.S. SCA ; Eric Fisk ; J.P.J.S. SCA.
03/13/2020
20200733 | G | RELX PLC ; Emailage Corp. ; RELX PLC.
20200796 | G | FaceBank Group, Inc. ; fuboTV, Inc. ; FaceBank Group, Inc.
20200798 | G | Regions Financial Corporation ; Warburg Pincus Private Equity XII, L.P. ; Regions Financial Corporation.
20200808 | G | New Mountain Partners V, L.P. ; P. Wiley Curran ; New Mountain Partners V, L.P.
20200816 | G | Mubadala Investment Company PJSC ; Ari Ojalvo ; Mubadala Investment Company PJSC.
20200817 | G | Energy Capital Partners IV-D, LP ; Energy Capital Partners IV-A, LP ; Energy Capital Partners IV-D, LP.
20200826 | G | Costco Wholesale Corporation ; Edward S. Lampert ; Costco Wholesale Corporation.
20200827 | G | Patrick Drahi ; The Edward Walson 2011 Revocable Trust ; Patrick Drahi.
20200828 | G | Fidelity National Financial, Inc. ; FGL Holdings ; Fidelity National Financial, Inc.
20200836 | G | Softbank Group Corp. ; The We Company ; Softbank Group Corp.
20200838 | G | Neenah, Inc. ; MSouth Equity Partners, L.P. ; Neenah, Inc.
20200839 | G | Lars Wingefors ; Mathew Karch ; Lars Wingefors.
20200846 | G | Sycamore Partners III, L.P. ; L Brands, Inc. ; Sycamore Partners III, L.P.
20200847 | G | Newhouse Broadcasting Corporation ; Scopely, Inc. ; Newhouse Broadcasting Corporation.
20200850 | G | Valor Equity Partners IV L.P. ; Bird Rides Inc. ; Valor Equity Partners IV L.P.
20200851 | G | TSG8 L.P. ; Pathway Vet Alliance Holding LLC ; TSG8 L.P.
20200857 | G | Mondelez International, Inc. ; GG Foods Holding Corporation ; Mondelez International, Inc.
03/19/2020
20191090 | S | Danaher Corporation ; General Electric Company ; Danaher Corporation.
03/30/2020
20200803 | G | Comcast Corporation ; Newco ; Comcast Corporation.
20200805 | G | AT&T Inc. ; NewCo ; AT&T Inc.
03/31/2020
20200741 | G | Silgan Holdings, Inc. ; Hercule PAI Holdings S.a.r.l. ; Silgan Holdings, Inc.
20200840 | G | CC KDC Co-Invest LP ; DH IV. 1 No. 1, LP ; CC KDC Co-Invest LP.
20200849 | G | RB CNS AIV B, LP ; Andrew Heaner ; RB CNS AIV B, LP.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-07913 Filed 4-14-20; 8:45 am]

BILLING CODE 6750-01-P